DEPARTMENT OF HEALTH AND HUMAN SERVICES

Centers for Disease Control and Prevention

[Program Announcement 00100]

Disease, Disability, and Injury Prevention and Control; Special Emphasis Panel: Community Based Strategies To Increase HIV Testing of Persons at High Risk in Communities of Color

In accordance with section 10(a)(2) of the Federal Advisory Committee Act (Pub. L. 92-463), the Centers for Disease Control and Prevention (CDC) announces the following meeting:

Name: Disease, Disability, and Injury Prevention and Control Special Emphasis Panel (SEP): Community Based Strategies to Increase HIV Testing of Persons At High Risk in Communities of Color, PA# 00100.

Times and Dates: 9 a.m.-9:30 a.m., August, 26, 2002 (Open), 9:30 a.m.-4:30 p.m., August 26, 2002 (Closed), 9 a.m.-4:30 p.m., August 27-28, 2002 (Closed).

Place: Atlanta Marriott Century Center, 2000 Century Boulevard, NE., Atlanta, GA 30345.

Status: Portions of the meeting will be closed to the public in accordance with provisions set forth in section 552b(c) (4) and (6), Title 5 U.S.C., and the Determination of the Director, Management Analysis and Services Office, CDC, pursuant to Public Law 92-463.

Matters To Be Discussed: The meeting will include the review, discussion, and evaluation of applications received in response to PA# 00100.

Contact Person for More Information: Beth Wolfe, Prevention Support Office, National Center for HIV, STD, and TB Prevention, CDC, 1600 Clifton Road, NE., MS E-07, Atlanta, GA 30333, 404-639-8025.

The Director, Management Analysis and Services Office has been delegated the authority to sign Federal Register notices pertaining to announcements of meetings and other committee management activities, for both the Centers for Disease Control and Prevention and the Agency for Toxic Substances and Disease Registry.

Joseph E. Salter,
Acting Director, Management Analysis and Services Office, Centers for Disease Control and Prevention (CDC).

[FR Doc. 02-20296 Filed 8-7-02; 10:52 am]

BILLING CODE 4163-18-P